DEPARTMENT OF THE INTERIOR

Bureau of Land Management

[CA-930-1430-ET, CACA 46634]

Public Land Order No. 7716; Withdrawal of Federal Lands and Transfer of Jurisdiction; California

AGENCY: Bureau of Land Management, Interior.

ACTION: Public Land Order.

SUMMARY: This order withdraws approximately 472 acres of lands from surface entry and mining, and transfers jurisdiction of the lands to the U.S. Fish and Wildlife Service to be managed as part of the Sacramento River National Wildlife Refuge. The lands will remain open to mineral and geothermal leasing, and mineral material sales.

DATES: September 23, 2008.

FOR FURTHER INFORMATION CONTACT: Duane Marti, BLM California State Office, 2800 Cottage Way, Suite W-1834, Sacramento, California 95825-1886; 916-978-4675.

SUPPLEMENTARY INFORMATION: The lands, comprising Todd and Foster Islands, protect riparian habitat along the Sacramento River which is critically important in the protection of fish, migratory birds, plants, and river system health. This order transfers administrative jurisdiction to the U.S. Fish and Wildlife Service to be managed pursuant to the authority of the Fish and Wildlife Act of 1956, 16 U.S.C. 742aa-742j-2 (2000), as amended, and the Endangered Species Act of 1973, 16 U.S.C. 1531-1543 (2000), as amended.

Order

By virtue of the authority vested in the Secretary of the Interior by Section 204 of the Federal Land Policy and Management Act of 1976, 43 U.S.C. 1714 (2000), it is ordered as follows:

1. Subject to valid existing rights, the following described lands are hereby withdrawn from settlement, sale, location, or entry under the general land laws, including the United States mining laws, 30 U.S.C., Ch. 2 (2000):

Mount Diablo Meridian

Foster Island

T. 23 N., R. 2 W.,

Sec. 11, lots 4 and 5;

Sec. 14, lots 1 to 5, inclusive;

Sec. 15, lots 1 to 5, inclusive.

The area described contains 221.89 acres in Tehama County.

Todd Island

A portion of Lot 40 of Rancho El Primer Canon or Rio de los Berrendos Land Grant, in Tehama County, California, and in T. 26 N., R. 2 W., MDM, more particularly described as follows: Parcels one, two, three, and four, described by metes and bounds, in a Corporation Grant Deed recorded in Book 602 at Page 620 of the Official Records of Tehama County, California on September 11, 1972.

The area described contains approximately 250 acres in Tehama County.

The two islands aggregate approximately 472 acres in Tehama County.

2. Subject to valid existing rights, the administrative jurisdiction of the lands described in Paragraph 1 and their related resource uses are hereby transferred to the U.S. Fish and Wildlife Service, to be managed as part of the Sacramento River National Wildlife Refuge and shall thereafter be subject to all laws and regulations applicable thereto.

Dated: September 8, 2008.
C. Stephen Allred,
Assistant Secretary—Land and Minerals Management.

[FR Doc. E8-22241 Filed 9-22-08; 8:45 am]

BILLING CODE 4310-55-P